DEPARTMENT OF THE TREASURY

Submission for OMB Review; Comment Request

April 19, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 29, 2001 to be assured of consideration.

Internal Revenue Service (IRS)

OMB Number: 1545-0908.

Form Number: IRS Forms 8282 and 8283.

Type of Review: Extension.

Title: Donee Information Return (Sale, Exchange or Other Disposition of donated Property) (8282); and Noncash Charitable Contributions (8283).

Description: Internal Revenue Code section 170(a)(1) and regulation section 1.170A-13(c) require donors of property valued over $5,000 to file certain information with their tax return in order to receive the charitable contribution deduction. Form 8283 is used to report the required information. Code section 6050L requires donee organizations to file an information return with the IRS if they dispose of the property received within two years. Form 8282 is used for this purpose.

Respondents: Individuals or households, Business or other for-profit.

Estimated Number of Respondents/Recordkeeper: 1,051,000.

Estimated Burden Hours Per Respondent/Recordkeeper:

| Form 8282 | Form 8283 (minutes)
Recordkeeping | 3 hr., 35 min. | 19
Learning about the law or the form | 12 min. | 29
Preparing the form | 15 min. | 36
Copying, assembling, and sending the form to the IRS |  | 34

Frequency of Response: Annually.

Estimated Total Reporting/Recordkeeping Burden: 3,019,050 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-10302 Filed 4-25-01; 8:45am]

BILLING CODE 4830-01-P